DEPARTMENT OF THE INTERIOR

Geological Survey

[GX23LC00TZ901: OMB Control Number 1028-0082]

Agency Information Collection Activities; U.S. Geological Survey Bird Banding Permit Applications and Band Recovery Reports

AGENCY: U.S. Geological Survey, Department of the Interior.

ACTION: Notice of information collection; request for comment.

SUMMARY: In accordance with the Paperwork Reduction Act of 1995 (PRA), the U.S. Geological Survey (USGS) is proposing to renew an information collection.

DATES: Interested persons are invited to submit comments on or before October 31, 2023.

ADDRESSES: Send your comments on this information collection request (ICR) by mail to USGS, Information Collections Clearance Officer, 12201 Sunrise Valley Drive, MS 159, Reston, VA 20192; or by email to gs-info_collections@usgs.gov. Please reference OMB Control Number 1028-0082, U.S. Geological Survey Bird Banding Permit Applications and Band Recovery Reports in the subject line of your comments.

FOR FURTHER INFORMATION CONTACT: To request additional information about this ICR, contact Antonio Celis-Murillo here by email at acelis-murillo@usgs.gov, or by telephone at 301-497-5808. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The Bird Banding Program is the responsibility of the USGS Bird Banding Laboratory (BBL). The BBL plays a critical role in permitting the banding and marking of wild birds and is responsible for storing and maintaining data on banded and marked birds. This effort requires coordination between banders and people who later encounter the marked birds to ensure the data are available for later analyses.

To achieve these goals, the BBL collects information using three forms: (1) The Application for Federal Bird Banding or Marking Permit, (2) The Federal Bird Banding or Marking Permit Renewal Form, and (3) The Bird Banding Recovery Report.

Title of Collection: Bird Banding Permit Applications and Band Recovery Reports.

OMB Control Number: 1028-0082.

Form Number: None.

Type of Review: Extension of a currently approved collection.

Respondents/Affected Public: General Public.

Total Estimated Number of Annual Respondents: 92,000.

—Bird Banding Permit Application: 80 respondents

—Bird Banding Permit Renewal: 400 respondents

—Band Recovery Form: 91,520 respondents

Total Estimated Number of Annual Responses: 93,150.

—Bird Banding Permit Application: 80 responses

—Bird Banding Permit Renewal: 400 responses

—Band Recovery Form: 92,670: responses

Estimated Completion Time per Response: 3 to 30 minutes, depending on form used.

—Bird Banding Permit Application: 30 minutes

—Bird Banding Permit Renewal: 30 minutes

—Band Recovery Form: 3 minutes

Burden Hours

—Bird Banding Permit Application: 80 responses/40 hours.

—Bird Banding Permit Renewal: 400 responses/200 hours.

—Band Recovery Report Form: 92,670 responses/4,634 hours.

Total Estimated Number of Annual Burden Hours: 4,874 hours.

Respondent's Obligation: Voluntary.

Frequency of Collection: On occasion.

Total Estimated Annual Nonhour Burden Cost: We have not identified any “non-hour cost” burdens associated with this collection of information.

An agency may not conduct or sponsor, nor is a person required to respond to, a collection of information unless it displays a currently valid OMB control number.

The authority for this action is the PRA (44 U.S.C. 3501 et seq.).

Antonio Celis-Murillo,
Chief, USGS Bird Banding Laboratory.

[FR Doc. 2023-18991 Filed 8-31-23; 8:45 am]

BILLING CODE 4388-11-P